DEPARTMENT OF HEALTH AND HUMAN SERVICES

Administration for Children and Families

Request for Information: Office of Head Start Tribal Programs

AGENCY: Administration for Children and Families, U.S. Department of Health and Human Services.

ACTION: Request for public comment.

SUMMARY: Prioritizing and directing resources to American Indian and Alaskan Native (AI/AN) programs to implement, expand, and/or enhance their Head Start services to tribal children and families is critical for meeting federal trust responsibility; preserving, and promoting Native language, culture, and traditions; and addressing the impact of historical trauma on Native Americans. As part of the Administration for Children and Families' (ACF) commitment to partnering with tribal nations to provide high-quality Head Start programming, in addition to regular tribal consultations, the Office of Head Start (OHS) invites public comment on the rules, regulations, and available training and technical assistance (TTA) supports impacting the AI/AN Head Start community. This Request for Information (RFI) seeks input on topics including eligibility; program options; quality environments; child health and safety; tribal language preservation, maintenance, revitalization, and restoration; family and community engagement; workforce; training and technical assistance; partnerships with state systems; facilities; fiscal operations; early childhood systems; and others, to improve the quality of Head Start services in areas of great need and affirm the federal government's commitment to protect Native communities.

DATES: To be considered, public comments must be received electronically no later than September 16, 2024.

ADDRESSES: Submit questions, comments, and supplementary documents to AIANHeadStart@acf.hhs.gov with “OHS Tribal RFI” in the subject line. All submissions received must include the Federal Register document number, 2024-05573, for “Request for Information: OHS Tribal Nations”. All comments received are a part of the public record and will be posted for public viewing on https://www.regulations.gov, without change. That means all personal identifying information (such as name or address) will be publicly accessible. Please do not submit confidential information or otherwise sensitive or protected information. We accept anonymous comments. If you wish to remain anonymous, enter “N/A” in the required fields.

SUPPLEMENTARY INFORMATION:

Background

Head Start is a leader in high-quality early childhood education, supporting children from low-income families in reaching kindergarten healthy and ready to thrive in school and life. The program was founded on research showing that health and well-being are pre-requisites to maximum learning and improved short- and long-term outcomes.

The Head Start program was most recently reauthorized in 2007 (Pub. L. 110-134 “Improving Head Start for School Readiness Act of 2007,” also known as, “the Head Start Act”). The Head Start Program Performance Standards (HSPPS), the regulations governing Head Start programs, were originally published in 1975 and revised in 2016 to incorporate findings from scientific research and reflect best practices and lessons learned from program innovation. Most recently, OHS released a Notice of Proposed Rulemaking (NPRM) titled, Supporting the Head Start Workforce and Consistent Quality Programming, which proposes new requirements to the HSPPS to support and stabilize the Head Start workforce and enhances existing requirements for consistent quality of services across programs. Currently, a final rule on the NPRM is forthcoming. Please note, comments from tribal stakeholders previously received on the NPRM are distinct from those we are soliciting on this RFI. Through this RFI, OHS is seeking comments that identify opportunities to improve quality and program operations as aligned with the Head Start Act.

The Head Start program promotes school readiness by providing preschool and early education programs alongside comprehensive health, education, nutrition, socialization, and other developmental services for children from birth to age 5, pregnant women, and their families. Region XI programs are funded by OHS to federally recognized AI/AN tribes or consortia of tribes. In fiscal year 2022, a total of 154 AI/AN grant recipients were funded by OHS. These AI/AN grant recipients were funded to serve 21,871 enrollees, of which 16,627 (76 percent) were preschool-age children (ages 3 to 5 years) served in Head Start programs and 5,244 (24 percent) were infants, toddlers, and pregnant women served in Early Head Start programs. AI/AN funded enrollment accounted for 2.6 percent of the total funded enrollment in Head Start and Early Head Start.

AI/AN Head Start programs are unique because they help fulfill the federal government's trust and responsibility to protect the interests of tribal nations and communities. The Head Start Act preserves and reinforces the federal government's commitment to work with tribal nations on a government-to-government basis. Specifically, OHS convenes tribal consultation sessions as required by section 640(l)(4) of the Head Start Act and in conformity with the Department of Health and Human Services (HHS) Tribal Consultation Policy.

With this RFI, OHS seeks public comment on whether existing OHS requirements, regulations, and TTA supports for AI/AN Head Start programs, (1) are appropriate for tribal nations to implement in a manner that best meets the needs of the children, families, and programs in their communities, and (2) properly recognize the principles of strong government-to-government relationships and tribal sovereignty. OHS seeks feedback on whether changes to procedures, processes, and TTA materials are needed to improve implementation of AI/AN Head Start programs.

We recognize that any changes made to tribal regulations or other requirements must be made with input and consultation from tribal nations and organizations that receive OHS funding. This RFI is being issued with ACF's Principles for Working with Federally Recognized Tribes in mind, including the promotion and sustainability of strong government-to-government relationships, tribal sovereignty, and transparency in ACF's actions as public servants.

Invitation to Comment: HHS invites comments regarding this notice. You do not need to address every question and should focus on those where you have relevant expertise or experience. In your response, please provide a brief description of yourself and your role or organization before addressing the questions. To ensure that your comments are clearly stated, please identify the questions you are responding to when submitting your response.

Collection of Information

In accordance with the implementing regulations of the Paperwork Reduction Act of 1995 (PRA), specifically 5 CFR 1320.3(h)(4), this general solicitation is exempt from the PRA. Facts or opinions submitted in response to general solicitations of comments from the public, published in the Federal Register or other publications, regardless of the form or format thereof, provided that no person is required to supply specific information pertaining to the commenter, other than that necessary for self-identification, as a condition of the agency's full consideration, are not generally considered information collections and therefore not subject to the PRA.

Respondents are encouraged to provide complete but concise responses. This RFI is issued solely for information and planning purposes; it does not constitute a Request for Proposal (RFP), applications, proposal abstracts, or quotations. This RFI does not commit the U.S. Government to contract for any supplies or services or make a grant award. Further, ACF is not seeking proposals through this RFI and will not accept unsolicited proposals. Responders are advised that the U.S. Government will not pay for any information or administrative costs incurred in response to this RFI; all costs associated with responding to this RFI will be solely at the interested party's expense. Not responding to this RFI does not preclude participation in any future procurement, if conducted. It is the responsibility of the potential responders to monitor this RFI announcement for additional information pertaining to this request. Please note that ACF will not respond to questions about the policy issues raised in this RFI. ACF may or may not choose to contact individual responders. Such communications would only serve to further clarify written responses. Contractor support personnel may be used to review RFI responses. Responses to this notice are not offers and cannot be accepted by the U.S. Government to form a binding contract or issue a grant. Information obtained as a result of this RFI may be used by the U.S. Government for program planning on a non-attribution basis. Respondents should not include any information that might be considered proprietary or confidential. This RFI should not be construed as a commitment or authorization to incur cost for which reimbursement would be required or sought. All submissions become U.S. Government property and will not be returned. ACF may publicly post the comments received, or a summary thereof.

What We Are Looking for in Public Comments

Through this RFI, OHS is particularly seeking input that provides specific changes to the AI/AN Head Start programs that improve program quality and program operations for tribal nations.

This RFI seeks to solicit suggestions and feedback from those directly impacted by the Head Start program requirements, including but not limited to, tribal leaders and elders, AI/AN Head Start service providers and staff, current federal and non-federal TTA providers, national organizations, researchers, philanthropy, families, and community members. This RFI is a federal record of comments provided by tribal communities and can be used in the future to inform changes in regulation, policy guidance, or delivery of TTA materials.

We ask respondents to address the questions listed below. You do not need to address every question and should focus on those where you have relevant expertise or experience. Commenters should identify the question to which they are responding by indicating the corresponding letter and/or number(s). We request commenters who identify barriers or policies to indicate the barrier or policy with as much detail as possible, as well as the types of program options (e.g., center-based, family child care, home-based) that are impacted.

A. Eligibility

ACF understands and appreciates the unique challenges that tribal programs face when determining eligibility for families who are interested in the program. The current HSPPS (Section 1302.12) and the Head Start Act (Sec. 645. [42 U.S.C. 9840]) describe eligibility determination rules with specific flexibility given to Indian tribes. Programs can use a family's income (and the federal poverty guidelines), homeless or foster care status, or receipt of certain public assistance (defined as Temporary Assistance for Needy Families (TANF), Supplemental Nutrition Assistance Program, or Supplemental Security Income) as indicators of eligibility.

In May 2023, OHS issued the Information Memorandum (IM), American Indian and Alaskan Native (AI/AN) Head Start Eligibility Through Tribal TANF, to support tribal sovereignty and expand public assistance eligibility to tribal families. Specifically, the IM clarifies to AI/AN Head Start programs that if families are eligible for benefits and services funded by tribal TANF, then they also meet categorical eligibility requirements for Head Start. While the guidance in this IM does not create new policy, OHS believes prior guidance issued on TANF eligibility has not explicitly addressed tribal TANF benefits and services in addition to cash assistance as a means for Head Start eligibility. The IM also explains that tribal governments have flexibility in establishing tribal TANF eligibility and because they administer AI/AN Head Start programs, they are uniquely positioned to leverage TANF as a means for categorical eligibility under public assistance.

One specific priority of OHS is to reduce barriers to enrollment of children and families who are experiencing homelessness, as defined by the McKinney-Vento Act. This is also prioritized in the Head Start Act (Sec. 640. [42 U.S.C. 9835]). Homelessness is defined by the McKinney-Vento Act as: individuals who lack a fixed, regular, and adequate nighttime residence; and includes:—

i. children and youths who are sharing the housing of other persons due to loss of housing, economic hardship, or a similar reason; are living in motels, hotels, trailer parks, or camping grounds due to the lack of alternative adequate accommodations; are living in emergency or transitional shelters; or are abandoned in hospitals;

ii. children and youths who have a primary nighttime residence that is a public or private place not designed for or ordinarily used as a regular sleeping accommodation for human beings (within the meaning of section 1103(a)(2)(C) of the McKinney-Vento Act);

iii. children and youths who are living in cars, parks, public spaces, abandoned buildings, substandard housing, bus or train stations, or similar settings; and

iv. migratory children (as such term is defined in section 1309 of the Elementary and Secondary Education Act of 1965) who qualify as homeless for the purposes of this subtitle because the children are living in circumstances described in clauses (i) through (iii).¹

ACF understands that the term “homeless” can be challenging for many AI/AN Head Start programs to implement. Several programs have adopted alternative nomenclature to adapt to their cultural norms (e.g., kinship care, Indigenous mobility), and ACF welcomes these efforts.

Tribal programs have additional flexibilities to fill more than 10 percent of their enrollment with participants who do not meet the eligibility criteria in Section 1302.12(c) of the HSPPS, provided that the program can demonstrate it has served all eligible individuals in the service area, serves at least 51 percent under one of the eligibility criteria, and that the program has the capacity to serve additional individuals. ACF has heard consistently from tribal leaders and program administrators that the current eligibility requirements in statute and regulation do not provide sufficient flexibility to tribes to determine who may receive Head Start services and that this lack of flexibility is counter to tribal sovereignty and cultural values.

Request for Information

What are your thoughts on eligibility requirements, regulations, and TTA supports for AI/AN Head Start programs as outlined above? See below for more specific prompts to target feedback on eligibility processes, public assistance, and enrolling children and families experiencing homelessness.

A.1 Eligibility Processes

OHS seeks input on how the eligibility requirements and processes work for tribal programs, and if there are any changes that could be made to better support the implementation of these regulations, acknowledging that most eligibility criteria are defined in statute. Specifically, OHS would like to understand how tribes verify eligibility and what culturally appropriate practices programs use to determine eligibility and if any improvements could be made to TTA around defining and verifying eligibility. Additionally, should there be a change in statute, OHS solicits suggestions and recommendations about how OHS can support implementation.

A.2 Public Assistance

We request input on the implementation of public assistance as a means for eligibility and if any additional changes would enable a more fair and equitable process for all tribal programs. Specifically, we request input on the guidance issued in the tribal TANF IM to understand if it has provided utility in addressing some of the challenges associated with eligibility limitations. Additionally, we request information on any other resources or information that would be helpful to ensure that AI/AN recipients can utilize this pathway to eligibility.

A.3 Enrolling Children and Families Experiencing Homelessness

OHS would like tribal Head Start programs to comment on how they are implementing and prioritizing enrollment of children and families who are experiencing homelessness, kinship care, or Indigenous mobility. OHS seeks insights into the challenges and barriers to enrolling children who are experiencing homelessness.

B. Program Options

Current OHS regulations provide flexibility to programs to design a program structure that works for the community they are serving whether that is through center-based, home-based, family child care, or an approved locally designed option (LDO). OHS is aware that unique cultural practices are often imbedded into AI/AN Head Start program design, making LDOs particularly useful for some tribal communities. Regardless of the program option, programs must deliver a range of comprehensive services and design a program calendar that aligns with community needs. Programs may convert slots from Head Start to Early Head Start through re-funding applications and change in scope applications, and AI/AN programs that operate both Head Start and Early Head Start may reallocate funding between the programs at their discretion and at any time during the grant period in order to address fluctuations in client populations. Programs that use this discretion must notify the regional office.

Request for Information

What are your thoughts on the program option requirements, regulations, and TTA supports for AI/AN Head Start programs as outlined above? See below for more specific prompts to target feedback on program options and waivers.

B.1 Program Options

OHS seeks input on how these program options are working in tribal communities. As such, OHS specifically requests comment on successful LDOs or program design choices that are being utilized to meet the needs of tribal children, families, and staff. OHS seeks comment on how technical assistance around program design can be improved for tribal programs and opportunities to improve the process for approval of LDOs and change in scope applications.

B.2 Waivers

All Head Start programs are eligible to request certain waivers related to group size, ratios, and service duration. OHS would like input on the value of the currently available waivers as well as input on any other culturally inclusive practices related to program design that would help to meet tribal needs. OHS seeks comment on how the waiver submission and approval process can be improved for tribal programs.

C. Quality Environments

Section 1302.31 of the HSPPS discusses the teaching and learning environment. This section of the standards includes requirements for educators to implement well-organized learning environments that include indoor and outdoor experiences. While the regulations do not require a particular curriculum, Section 1302.32 of the HSPPS does require programs to implement developmentally appropriate, research-based early childhood curricula that are based on scientifically valid research and aligned with the Head Start Early Learning Outcomes Framework (ELOF). The ELOF is designed to allow early childhood programs to connect their community's traditional cultural skills, values, beliefs, language, and lifeways with the ELOF domains or state and tribal early learning guidelines. The HSPPS require that curricula have an organized developmental scope and sequence that include plans and materials for developmentally appropriate learning experiences. A program may choose to make significant adaptations to a curriculum to better meet the needs of a specific population, however the program must assess whether the adaptation adequately facilitates progress toward meeting school readiness goals. These specifications are also reflected in the Head Start Act, Sec. 642 [42 U.S.C. 9837]. OHS has heard from tribal leaders and program administrators that the requirements for a research-based curriculum inhibit them from implementing truly culturally grounded curricula, even with the allowances for significant adaptation.

Section 1302.21 of the HSPPS also specifies square footage requirements for center-based programs. Specifically, Section 1302.21(d)(2) requires that center-based programs have “At least 35 square feet of usable indoor space per child available for the care and use of children (exclusive of bathrooms, halls, kitchen, staff rooms, and storage places) and at least 75 square feet of usable outdoor play space per child.”

Request for Information

What are your thoughts on the quality environment requirements, regulations, and TTA supports for AI/AN Head Start programs as outlined above? See below for more specific prompts to target feedback on the ELOF, curriculum, and indoor and outdoor spaces.

C.1 ELOF

OHS recognizes that integrating traditional tribal teachings and culture are critically important for tribal language maintenance, revitalization, and restoration, as well as for the impact they can have on healing generational trauma. OHS seeks input on whether the current ELOF is appropriate for AI/AN grant recipients and specific elements that are missing or not appropriate for tribes. OHS seeks input on how AI/AN Head Start programs implement the ELOF and how it fits, or does not fit, cultural practices and lifeways of tribal communities.

C.2 Curriculum

OHS seeks input on how the requirements around curricula adequately reflect Indigenous culture and language. While the HSPPS allow for some flexibility in designing a curriculum that is aligned with the ELOF, OHS seeks comment on any additional improvements that could be made and how our training materials can better support tribes to implement the flexibilities that exist and the options that programs have.

C.3 Indoor and Outdoor Space

OHS seeks input on the current regulations around indoor and outdoor space, square footage requirements, and whether these requirements have created cultural barriers or challenges for tribal communities and AI/AN programs. We are interested to know if there are ways that OHS can improve or enhance this standard and any policy guidance or technical assistance that would be beneficial for programs when designing their programs' spaces.

D. Child Health and Safety

As part of Head Start's comprehensive services, every Head Start and Early Head Start program provides services to promote health, behavioral health, and safety for children and families. To support healthy environments, section 1302.40(b)of the HSPPS requires each program to establish and maintain a Health Services Advisory Committee (HSAC), an advisory group usually composed of local health professionals who represent a wide variety of local health and social services agencies to support children's healthy development. The HSAC may include pediatricians, nurses, nurse practitioners, dentists, dental hygienist, nutritionists, and mental health professionals, and often includes Head Start parents and staff. OHS understands that tribal programs have challenges creating these HSACs as most of our tribal programs are in rural and remote areas and those local health providers who should represent a wide variety of local social services agencies are not available or easily accessible in their communities.

Request for Information

What are your thoughts on the child health and safety requirements, regulations, and TTA supports for AI/AN Head Start programs as outlined above? See below for more specific prompts to target feedback on child health and safety.

D. Child Health and Safety

OHS seeks input on barriers to developing and maintaining HSACs, if any, within AI/AN Head Start programs. In addition, we seek input on whether OHS coordinating with Indian Health Service (IHS) would be a helpful way to address some of the challenges with developing and maintaining HSACs. Lastly, OHS welcomes any additional feedback on how our training materials can better support tribes to maintain healthy and safe AI/AN Head Start programs.

E. Tribal Language Preservation, Maintenance, Revitalization, and Restoration

OHS values and respects Native language preservation, maintenance, revitalization, and restoration, and recognizes the impact of historical trauma and other community traumas, such as exposure to violence, grief, and loss. Traumatic events, such as forced relocation, genocide, and the abduction of youth to more than 350 government-funded boarding schools have caused lasting impacts on Native American communities.

OHS understands that tribal teaching methods for non-written language are different from written language and can be especially beneficial for young children who are not yet writing. As such, the role of elders in AI/AN programs is particularly important for tribal culture and language preservation and revitalization. Tribal early childhood needs have only been exacerbated as Native communities have been particularly hit hard by the COVID-19 pandemic, causing a significant loss of elders that is profoundly painful given their wisdom and status as cultural knowledge and language keepers.

In Section 1302.31 of the HSPPS, programs are required to recognize bilingualism and biliteracy as strengths and implement research-based teaching practices that support dual language learners' development. For dual language learners, regulations require that programs must support the language spoken at home and English language acquisition for infants, toddlers, and preschoolers. Regulations also require programs to support children's native language even when staff do not speak the home language of all children.

Section 1302.36 of the HSPPS outlines the tribal language preservation and revitalization section. This section allows programs that serve AI/AN children to integrate efforts to preserve, revitalize, restore, or maintain the tribal language for those children. Such language preservation efforts may include full immersion in the tribal language for the majority of hours in the classroom. Per this section, exposure to English in the Head Start program is not required if the child's home language is English and if the program wishes to fully utilize the Native language in the program.

Request for Information

What are your thoughts on tribal language preservation, maintenance, revitalization, and restoration requirements, regulations, and TTA supports for AI/AN Head Start programs as outlined above? See below for more specific prompts to target feedback on language preservation, maintenance, revitalization, and restoration.

E. Language Preservation, Maintenance, Revitalization, and Restoration

OHS seeks input on how HSPSS can best support tribes in integrating cultural and native languages, as well as any standards that are impediments to integrating Native culture and language. OHS is specifically interested in how the office can better support programs implementing language preservation and revitalization practices, and whether this section of the HSPPS should be updated or amended. OHS seeks input on how program regulations and policies can improve how tribal elders and other community members participate in and contribute to language preservation efforts and how this information could be used to inform policy guidance, technical assistance, and training materials. OHS also understands that some programs have been particularly creative with utilizing existing flexibilities to improve tribal language and culture preservation efforts, integrating traditional ways in the classroom such as harvesting, carving, fishing, dancing, singing, and drumming. OHS requests comments on best practices or supports needed for programs that are looking to increase language and cultural integration into programming.

F. Family and Community Engagement

OHS recognizes the historical trauma that tribes have faced, and the recent disproportional trauma experienced by tribes from the COVID-19 pandemic, which has resulted in tremendous losses. Because of this, family engagement is more important now than ever before. Family engagement and involvement is the cornerstone of the Head Start model, as demonstrated in several sections of the Head Start Act and the HSPPS. Section 1302 Subpart E of the HSPPS outlines requirements for Family and Community Engagement Program Services that programs must follow. In Section 1302.50, programs are required to integrate parent and family engagement strategies into all systems and program services to support family well-being and promote children's learning and development. Programs are encouraged to develop multi-generational approaches that address prevalent needs of families. Family engagement may look different in tribal communities than other communities, given the prevalence of multi-generational families and a more communal approach to raising and caring for children. AI/AN programs may be utilizing tailored family engagement approaches to effectively engage extended family and community members in addition to parents.

Many AI/AN programs are working hard to integrate families into their programs. For example, some AI/AN programs incorporate families into their classrooms as part of summer programming or cultural camp experiences. In fact, the most recent 2022 Program Information Report data show that 45 percent of staff in AI/AN programs are current or former parents. This shows that AI/AN programs are incorporating families into their programming and cultivating strong partnerships that lead to parental employment.

Request for Information

What are your thoughts on the family and community engagement requirements, regulations, and TTA supports for AI/AN Head Start programs as outlined above? See below for more specific prompts to target feedback on family and community engagement.

F. Family and Community Engagement

There are many ways that programs can choose to integrate families and communities into their programming. OHS would like to understand the barriers that programs face when engaging with parents and families, and whether the HSPPS are clear and culturally appropriate when explaining the expectations with respect to family engagement. Additionally, OHS would like to understand how TTA can be improved in this area. OHS seeks comment on any improvements that could be made in the training materials and resources that are provided to tribal programs.

G. Investing in the Workforce

Retention, Recruitment, Compensation, and Benefits

Like many early childhood programs, Head Start—including AI/AN Head Start programs—report difficulty recruiting and retaining staff. Last year, OHS issued guidance encouraging grant recipients to sustainably increase wages and benefits, and invited grant recipients to restructure their budget to accommodate such increases that sometimes includes a change in scope proposal to reduce the number of slots available. Most recently, OHS has released an NPRM with new proposed requirements to support and stabilize the Head Start workforce including proposed requirements for wages and benefits, and enhanced supports for staff health and wellness. Many programs are taking bold steps to address this workforce crisis. From providing financial incentives to offering additional supports to staff, some programs have found creative ways to maintain, foster, and grow their own workforce to support their programs.

Teacher Qualifications

Teacher qualifications in Head Start are set in the Head Start Act and then reflected through regulation in the HSPPS. Broadly, current teacher qualifications outline different requirements for lead teachers, assistant teachers, family child care providers, and Early Head Start teachers (Section 1302.91 of the HSPPS). For example, lead teachers in a Head Start center-based program must have at least an associate or bachelor's degree in child development or early childhood education, equivalent coursework or otherwise meet the alternative credentialing requirements in section 648A(a)(3)(B) of the Act (and see 45 CFR 1302.91(e)(2)(ii)). Assistant teachers in Head Start must have, at a minimum, a Child Development Associate (CDA) credential or a state-awarded certificate that meets or exceeds the requirement for a CDA credential, or are enrolled in a program that will lead to an associate or baccalaureate degree, or are enrolled in a CDA credential program to be completed within 2 years of the time of hire (45 CFR 1302.91(3)).

OHS provides technical assistance to programs to support their workforce and teacher education, and provides resources for programs to use to determine state equivalency. However, OHS understands these standards can be difficult to meet, especially when considering the importance of tribal elders and Native language speakers and how these individuals may not meet teacher qualifications. OHS has heard consistently from tribal leaders and program administrators that the current education requirements prevent them from hiring staff, including elders, who they feel are best suited to pass on their cultures and languages and prepare their children to be thriving members of their tribes.

The Tribal Colleges and Universities (TCU) Head Start Partnership Program was developed to increase the number of qualified education staff working in AI/AN Head Start programs. Through this unique and successful partnership, TCUs achieve this goal by (1) building early childhood education career pathways in AI/AN communities, (2) addressing the employment needs of AI/AN tribes through a “Growing Our Own” Approach, and (3) meeting the unique needs of individual Native communities and supporting staff in AI/AN programs to acquire the competencies that ensure children's academic development while also supporting cultural identity. By 2028, there will be over 700 tribal education staff graduating with a certification and/or degree in early education including CDA, bachelor's degree, and master's degree programs offered by the TCUs leading institutions.

Request for Information

What are your thoughts on the workforce requirements, regulations, and TTA supports for AI/AN Head Start programs as outlined above? See below for more specific prompts to target feedback on retention, recruitment, compensation and benefits, teacher qualifications, and training and technical assistance.

G.1. Retention, Recruitment, Compensation, and Benefits

OHS seeks input on how programs have addressed the workforce shortage, including efforts to increase compensation and benefits, and what additional flexibilities AI/AN programs would like to see in order to make additional progress in this area. For example, OHS is requesting comment on the strategies, funding mechanisms, and approaches that programs take to recruiting and retaining teaching staff. Additionally, OHS is requesting comment on compensation and benefits packages that are being or could be implemented to improve recruitment and retention.

G.2. Teacher Qualifications

Current regulations and statute are specific about the types of education that qualify for teachers, assistant teachers, and family child care providers in Head Start and Early Head Start. Nonetheless, OHS seeks input on how this regulation could be improved to account for tribal variations in degree availability.

H. Training and Technical Assistance (TTA) for AIAN Programs

OHS-funded TTA is delivered primarily through four national TTA centers, each with their own specialty areas: (1) Early Childhood Development, Teaching, and Learning; (2) Health Behavioral Health and Safety; (3) Parent, Family, and Community Engagement; and (4) Program Management and Fiscal Operations. In addition, each Head Start region has regionally-based TTA providers that provide support to all programs in the region free of charge. Region XI, the region for all AI/AN Head Start programs, works collaboratively with their TTA providers to assist programs based on specific priority areas that are co-developed with AI/AN directors. TTA providers come on-site to programs to provide group training and technical assistance opportunities. This collaboration helps shape the direction of TTA that is provided in any given year. Additionally, each Head Start program has access to funding to use on their own TTA efforts. Programs can use these funds to support their own needs that align with their priorities outlined in their grant application.

Request for Information

What are your thoughts on TTA supports for AI/AN Head Start programs as outlined above? See below for more specific prompts to target feedback on TTA materials and resources and TTA funding for programs.

H.1. TTA Materials and Resources

OHS seeks feedback on whether the TTA that is designed for AI/AN programs is helpful for making programmatic decisions and crafting program policies that improve the quality of the programs. OHS would like input on the network of TTA resources, training, and materials. OHS seeks feedback on whether existing TTA is effective in elevating the voices of tribal members and their lived experiences in the OHS TTA network structure. OHS would like to understand if there are any areas where we can improve and be more culturally responsive and appropriate.

H.2. TTA Funding for Programs

OHS is requesting input on the structure and usage of individual TTA dollars that programs can use for their own targeted TTA. OHS would like to understand if more guidance or support on how best to use these targeted TTA funds is needed for tribal programs.

I. Supporting Partnerships With State Systems

AI/AN programs operate in 26 states that each have their own policies and relationships with tribal communities. As the needs of children and families are becoming more complex, OHS is prioritizing the coordination of Head Start services with state systems and national programs to strengthen outcomes for children prenatal to age 5 and their families. OHS utilizes Head Start collaboration offices (HSCO) across the country to strengthen partnerships with school systems that lead to the developmentally appropriate alignment of curricula, assessment, and instruction through Early Head Start and Head Start and across the early grades of the schools where Head Start children will enter. Region XI has its own HSCO, the National AI/AN Head Start Collaboration Office (NAIANHSCO), that works to identify potential partners for collaboration and communicates the needs of Head Start children and families. The NAIANHSCO forms alliances to provide appropriate support to Head Start and Early Head Start programs.

Request for Information

What are your thoughts on supporting partnerships with state systems through requirements, regulations, and TTA supports for AI/AN Head Start programs as outlined above? See below for more specific prompts to target feedback on supporting state systems.

I. Supporting State Systems

OHS would like input on how AI/AN programs are interfacing with state systems and national programs and if there is additional support that OHS can provide. Specifically, OHS requests information on additional supports OHS can provide at the federal level to support collaboration between tribes and states, such as tribal collaboration with Local Education Agencies to provide services for with children with disabilities. Additionally, OHS requests information on suggestions to improve information sharing across HSCOs, systems specialists on the TTA contract, and the regional office.

J. Facilities

AI/AN Head Start grant recipients have reported the need for facility improvements that include both major and minor renovations as well as the need for new construction. In 2020, OHS issued a report, Report to Congress on AIAN Head Start Facilities, which details the condition of the 155 AI/AN Head Start recipients who provide Head Start services across 26 states. A web survey was completed for 295 (56 percent) of the 530 AI/AN Head Start facilities in use at the time and found: 9 percent of facilities were `poor', in need of major renovations across most areas and could potentially be decommissioned; 27 percent were `fair', with multiple areas needing major or minor renovation; 33 percent were `average', fully operational but could use a few minor renovations; 24 percent were `good', fully operational with regular maintenance schedule; and only 7 percent were `excellent' like a new facility.

Subpart E of 45 CFR 1303 implements the statutory requirements in the Head Start Act, Section 644(c), (f), and (g) related to facilities. It prescribes what a recipient must establish to show it is eligible to purchase, construct, and renovate facilities and explains how a recipient may apply for funds; details what measures a recipient must take to protect federal interest in facilities purchased, constructed, or renovated with grant funds; and concludes with other administrative provisions.

In addition to facility improvements, such as minor or major renovations and construction, Head Start facilities must be maintained to ensure each child served in Head Start and Early Head Start programs is properly safeguarded from environmental hazards. As outlined in the HSPSS in section 1302.47(b)(1)(iii), all facilities where children are served, including areas for learning, playing, sleeping, toileting, and eating are, at a minimum free from pollutants, hazards, and toxins that are accessible to children and could endanger children's safety. Of specific concern, lead in water and paint are environmental hazards that can be toxic for developing children and can have adverse effects on physical and behavioral health. As such, OHS released an Information Memorandum on addressing lead in water by testing, remediating, and replacing water service lines following the Environmental Protection Agency guidelines in Head Start facilities. This IM also provides information on other federal funding sources that can be leveraged to eliminate lead in facilities.

Tribal communities have been the recipients of many environmental injustices, and are disproportionately exposed to environmental contaminants based on where they live,² ³ highlighting the need to mitigate toxins, pollutants, and hazards in Head Start facilities—for children, families, and staff. Federally recognized tribes are not subject to state mandates, therefore tribal programs are not required to be licensed by the state. OHS understands that less than 3 percent of tribal public water systems have been included in government-mandated monitoring, which indicates a critical issue with expanding safety testing. To account for this, IHS provides environmental health and safety assessments of most tribal grant recipient facilities on an annual basis. While there are regular assessments, OHS recognizes there is not a steady source of OHS funds to address all health and safety improvements and needs identified by IHS.

OHS understands that often there is a lack of alternate facilities in rural and remote areas, forcing recipients to spend significant portions of their budget to maintain environmentally safe facilities. Tribes have asked OHS to create reliable recurring funding opportunities for renovation or construction of facilities, which could include funding for technology infrastructure and other improvements that facilitate high-quality programs.

Currently, both Head Start and Child Care and Development Fund (CCDF) funds can be used by tribes to construct and/or improve facilities for early care and education services. The Office of Child Care and OHS have different application submission, review, and approval processes, which can be cumbersome and particularly hard to navigate for tribes that wish to submit an application to use both sources of funding.

Request for Information

What are your thoughts on facility requirements, regulations, and TTA supports for AI/AN Head Start programs as outlined above? See below for more specific prompts to target feedback on facilities.

J. Facilities

OHS understands that facility improvements are critically important to providing quality environments. While OHS cannot increase funding opportunities for facilities absent congressional action, OHS would like input on current regulations, processes, and TTA supports related to AI/AN Head Start facilities and whether there are any improvements or changes that could be made to help further meet tribal needs. OHS also seeks input on how AI/AN Head Start programs are creating healthy and safe facilities free from toxins, pollutants, and hazards, such as lead in water and paint, and what barriers they encounter, if any, to safeguarding children. OHS recognizes that Head Start facilities are often designed to integrate culturally relevant modalities, imagery, and features that facilitate the preservation of traditions and culture and invites comment on best practices in this area. Additionally, OHS invites comment on specific challenges or barriers recipients have experienced with facility funding requirements, including the major renovation (also known as the 1303) application and approval process. We also specifically seek input on barriers to building a facility that will serve more than the Head Start program, such as facilities jointly funded by Head Start and CCDF.

K. Fiscal Operations and Management

Part 1303, Financial and Administrative Requirements, establishes regulations applicable to program administration and grants management for all grants under the Head Start Act. Some of these requirements include the 15 percent administrative cost limitation and the 20 percent non-federal match requirement.

Costs to develop and administer a program cannot be excessive or exceed 15 percent of the total approved program costs (Sec. 644(b)(2) of the Act). OHS understands that some tribes would like to remove the 15 percent administrative cost, as required in statute. While OHS does not have the authority to automatically waive the administrative cost cap requirement for tribes (which includes both federal costs and non-federal match), OHS wants to remind tribes that they can request a waiver if (1) a delay or disruption to program services is caused by circumstances beyond the agency's control, or, (2) if an agency is unable to administer the program within the 15 percent limitation and if the agency can demonstrate efforts to reduce its development and administrative costs (1303.5 (b)(1) of HSPPS). If at any time within the grant funding cycle, a tribe estimates development and administration costs will exceed 15 percent of total approved costs, they must submit a waiver request to the responsible HHS official that explains why costs exceed the limit, that indicates the time period the waiver will cover, and that describes what the grantee will do to reduce its development and administrative costs to comply with the 15 percent limit after the waiver period (1303.5 (b)(2) of HSPPS).

In accordance with Section 640(b) of the Act, federal financial assistance to a grantee will not exceed 80 percent of the approved total program costs. A grantee must contribute 20 percent as non-federal match each budget period. OHS also understands that some tribes are requesting to remove the non-federal share match requirement. While OHS does not have the authority to institute automatic waivers for the non-federal share requirement for tribes, OHS reminds tribes that if an AI/AN program has been actively seeking non-federal match but is struggling to meet its requirement, it can apply to its regional office for a waiver. The following circumstances covered in the Head Start Act are considered when approving waivers:

• Lack of community resources that prevent a Head Start or Early Head Start program from providing all or a portion of the required match

• Impact of the cost the program may incur as it starts a new program in its initial years of operation

• Impact of an unanticipated increase in costs the program may incur

• Impact of a major disaster in a community that prevents the program from meeting its match

• Impact on the community that would result if the Head Start or Early Head Start program ceased to operate

The responsible HHS official may approve a waiver of all or a portion of the non-federal match requirement on the basis of the grantee's written application submitted for the budget period and any supporting evidence included.

Request for Information

What are your thoughts on fiscal operations and management requirements, regulations, and TTA supports for AI/AN Head Start programs as outlined above? See below for more specific prompts to target feedback on fiscal operations.

K. Fiscal Operations

OHS invites comment on specific challenges or barriers recipients have experienced with these fiscal requirements, and others not listed, as well as any opportunities we can improve to better support tribes in fiscal management and oversight.

L. Early Childhood Systems

Tribal early childhood development programs that serve young children and their families, including Head Start, CCDF, and tribal Maternal, Infant, and Early Childhood Home Visiting (MIECHV), have separate funding sources, standards, regulations, and governance structures. Some tribes have shared that they have encountered challenges in collaborating across programs to develop a comprehensive birth to 5 approach to early care and education, while others have had success with collaboration and early childhood systems building.

ACF has engaged in efforts to support more coordinated and integrated tribal early childhood programs and systems, including the Tribal Early Learning Initiative (TELI). TELI is a partnership between ACF and tribes to better coordinate tribal early learning programs, create seamless systems for high-quality early childhood, raise the quality of services, and identify and break down barriers to collaboration and system improvement.

Request for Information

What are your thoughts on the early childhood systems requirements, regulations, and TTA supports for AI/AN Head Start programs as outlined above? See below for more specific prompts to target feedback on early childhood systems.

L. Early Childhood Systems

OHS understands that AI/AN Head Start programs have experienced both successes and barriers to collaboration with other early childhood system partners, including child care, home visiting, and other programs serving young children and their families. We welcome input regarding the provisions of the HSPPS that inhibit or promote collaboration to establishing seamless and integrated supports for families. We also welcome input on what policy guidance or TTA would be helpful in enabling tribes to better align and coordinate programs and build stronger early childhood systems.

M. Other Topics

Please describe any other OHS tribal regulations and processes that interfere with tribal nations' Head Start program implementation and/or policies, regulations or TTA supports not yet addressed in this RFI and proposed solution(s).

Megan Steel,
ACF Certifying Officer.

[FR Doc. 2024-05573 Filed 3-15-24; 8:45 am]

BILLING CODE 4184-40-P